DEPARTMENT OF HOMELAND SECURITY

Coast Guard

46 CFR Parts 1, 5, 10, 12 and 13

[USCG-2006-25535]

RIN 1625-ZA09

Mariner Licensing and Documentation Program Restructuring and Centralization; Correction

AGENCY: Coast Guard, DHS.

ACTION: Technical amendment; correction.

SUMMARY: The Coast Guard is correcting a technical amendment that appeared in the Federal Register on August 21, 2006. That technical amendment authorizes the Commanding Officer, National Maritime Center to perform certain mariner credentialing functions in addition to Officers in Charge, Marine Inspection, who currently perform those functions. At the end of a transitional period, most credentialing functions will be consolidated at a centralized location. The amendment also makes technical changes to the mariner credentialing appellate process. The technical amendment is organizational in nature and will have no substantive effect on the regulated public.

DATES: Effective September 20, 2006.

FOR FURTHER INFORMATION CONTACT: If you have questions on this rule, call Gerald Miante, Project Manager, Maritime Personnel Qualifications Division (G-PSO-1), U.S. Coast Guard, telephone 202-372-1407. If you have questions on viewing the docket, call Ms. Renee V. Wright, Program Manager, Docket Operations, telephone 202-493-0402.

SUPPLEMENTARY INFORMATION:

Background and Purpose

The Coast Guard is correcting a technical amendment that appeared in the Federal Register on August 21, 2006 (71 FR 48480). That technical amendment authorizes the Commanding Officer, National Maritime Center to perform certain mariner credentialing functions in addition to Officers in Charge, Marine Inspection, who currently perform those functions. At the end of a transitional period, most credentialing functions will be consolidated at a centralized location. The amendment also makes technical changes to the mariner credentialing appellate process. The technical amendment is organizational in nature and will have no substantive effect on the regulated public.

This correction adds a word in the preamble, and adds two words and removes a word in three different places in the regulatory text.

In FR Doc. E6-13781 the Federal Register of Monday, August 21, 2006, the following corrections are made:

1. On page 48481, in the first column, the first full sentence is corrected to read “We expect the economic impact of this rule to be so minimal that a full Regulatory evaluation is not necessary.”

§ 1.01-15 [Corrected]

2. On page 48482, in the first column, the first sentence of § 1.01-15 paragraph (c) is corrected to read as follows: “The Commanding Officer of the National Maritime Center has been designated and delegated to give direction to Coast Guard activities relating to marine safety functions consisting of the licensing, credentialing, certificating, shipment and discharge of seamen; referring to the processing Regional Examination Center (REC) or cognizant OCMI violations of law, negligence, misconduct, unskillfulness, incompetence or misbehavior of persons applying for or holding merchant mariner's documents, licenses, certificates or credentials issued by the Coast Guard; suspension or withdrawal of course approvals; and recommending possible suspension or revocation under 46 U.S.C. Chapter 77 of licenses, credentials, certificates and merchant mariner's documents.”

3. On page 48482, in the first column, the last sentence of § 1.01-15 paragraph (c) is corrected to read as follows: “A list of Regional Examination Center locations is available through the Coast Guard Web site at http://www.uscg.mil.”

§ 10.105 [Corrected]

4. On page 48482, in the third column, the last sentence of § 10.105 paragraph (a) is corrected to read as follows: “A list of Regional Examination Center locations is available through the Coast Guard Web site at http://www.uscg.mil.”

Dated: September 12, 2006.
Stefan G. Venckus,
Chief, Office of Regulations and Administrative Law, United States Coast Guard.

[FR Doc. E6-15493 Filed 9-18-06; 8:45 am]

BILLING CODE 4910-15-P